DEPARTMENT OF LABOR

Employment and Training Administration

[TA-W-40,307]

Universal Furniture Limited, Goldsboro, North Carolina; Notice of Termination of Investigation

Pursuant to section 221 of the Trade Act of 1974, an investigation was initiated on October 29, 2001 in response to a worker petition which was filed on behalf of workers at Universal Furniture Limited, Goldsboro, North Carolina.

As active certification covering the petitioning group of workers is already in effect (TA-W-38,811A, as amended). Consequently, further investigation in this case would serve no purpose, and the investigation has been terminated.

Signed in Washington, DC this 12th day of December, 2001.
Linda G. Poole,
Certifying Officer, Division of Trade Adjustment Assistance.

[FR Doc. 01-32211 Filed 12-31-01; 8:45 am]

BILLING CODE 4510-30-M